DEPARTMENT OF TRANSPORTATION

Federal Aviation Administration

14 CFR Part 71

[Docket No. FAA-2018-0139; Airspace Docket No. 18-ACE-1]

RIN 2120-AA66

Amendment of Class E Airspace; Lyons, KS

AGENCY: Federal Aviation Administration (FAA), DOT.

ACTION: Final rule, correction.

SUMMARY: This action corrects a final rule published in the Federal Register of August 1, 2018, that amends Class E airspace at Lyons-Rice County Municipal Airport, Lyons, KS. The word “County” was inadvertently omitted from the airport name in the Summary, History, and Rules section of the document, as well as in the header of the legal description.

DATES: Effective date 0901 UTC, November 8, 2018. The Director of the Federal Register approves this incorporation by reference action under Title 1, Code of Federal Regulations, part 51, subject to the annual revision of FAA Order 7400.11 and publication of conforming amendments.

FOR FURTHER INFORMATION CONTACT: Rebecca Shelby, Federal Aviation Administration, Operations Support Group, Central Service Center, 10101 Hillwood Parkway, Fort Worth, TX 76177; telephone (817) 222-5857.

SUPPLEMENTARY INFORMATION:

History

The FAA published a final rule in the Federal Register for Docket No. FAA-2018-0139 (83 FR 37422, August 1, 2018), amending Class E airspace at Lyons-Rice County Municipal Airport, Lyons, KS. Subsequent to publication, the FAA identified a clerical error that the word “County” was omitted from the airport name in the preamble, as well as in the header of the legal description. This correction changes the airport name in the Summary section, History section, and Rules section, and the legal description from Lyons-Rice Municipal Airport” to read “Lyons-Rice County Municipal Airport”.

Correction to Final Rule

Accordingly, pursuant to the authority delegated to me, in the Federal Register of August 1, 2018 (83 FR 37422) FR Doc. 2018-16363, Amendment of Class E Airspace; Lyons, KS, is corrected as follows:

§ 71.1 [Amended]

ACE KS E5 Lyons, KS [Corrected]

On page 37422, column 2, lines 3 and 4; column 3, line 15 and 48; and on page 37423, column 1, line 60, remove “Lyons-Rice Municipal Airport, KS” and add in its place “Lyons-Rice County Municipal Airport, KS”.

Issued in Fort Worth, Texas, on September 7, 2018.
Walter Tweedy,
Acting Manager, Operations Support Group, Central Service Center.

[FR Doc. 2018-19977 Filed 9-14-18; 8:45 am]

BILLING CODE 4910-13-P